DEPARTMENT OF TRANSPORTATION

Federal Aviation Administration

Thirty-Fifth Meeting: RTCA Special Committee 224 (SC 224) Airport Security Access Control Systems

AGENCY: Federal Aviation Administration (FAA), U.S. Department of Transportation (DOT).

ACTION: Thirty-Fifth Meeting Notice of RTCA Special Committee 224.

SUMMARY: The FAA is issuing this notice to advise the public of the thirty-fifth meeting of the RTCA Special Committee 224.

DATES: The meeting will be held September 17th from 10:00 a.m.-3:00 p.m.

ADDRESSES: The meeting will be held at RTCA Headquarters, 1150 18th Street NW., Suite 910, Washington, DC 20036, Tel: (202) 330-0654.

FOR FURTHER INFORMATION CONTACT: The RTCA Secretariat, 1150 18th Street NW., Suite 910, Washington, DC 20036, or by telephone at (202) 833-9339, fax at (202) 833-9434, or Web site at http://www.rtca.org or Harold Moses, Program Director, RTCA, Inc., khofmann@rtca.org, (202) 330-0654.

SUPPLEMENTARY INFORMATION: Pursuant to section 10(a) (2) of the Federal Advisory Committee Act (Pub. L. 92-463, 5 U.S.C., App.), notice is hereby given for a meeting of the RTCA Special Committee 224. The agenda will include the following:

Thursday, September 17, 2015

1. Welcome/Introductions/Administrative Remarks

2. Review/Approve Previous Meeting Summary

3. Report from the TSA

4. Report on Safe Skies on Document Distribution

5. Review of the Credentialing Section—Final Draft

6. Approve release of DO-230 “F” for Final Review and Comment (FRAC)

7. Review of Other DO-230 “G” Sections

8. Action Items for Next Meeting

9. Time and Place of Next Meeting

10. Any Other Business

11. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 24, 2015.
Latasha Robinson,
Management & Program Analyst, Next Generation, Enterprise Support Services Division, Federal Aviation Administration.

[FR Doc. 2015-21177 Filed 8-25-15; 8:45 am]

BILLING CODE 4910-13-P